DEPARTMENT OF HOMELAND SECURITY

Coast Guard

33 CFR Part 117

[Docket No. USCG-2018-0057]

Drawbridge Operation Regulation; Three Mile Slough, Rio Vista, CA

AGENCY: Coast Guard, DHS.

ACTION: Notice of deviation from drawbridge regulation.

SUMMARY: The Coast Guard has issued a temporary deviation from the operating schedule that governs the California Route 160 Drawbridge across Three Mile Slough, mile 0.1, near Rio Vista, CA. This deviation allows the bridge to remain in the closed-to-navigation position while the bridge owner conducts emergency repairs.

DATES: This deviation is effective without actual notice from January 29, 2018 through 11 p.m. on February 23, 2018. For the purposes of enforcement, actual notice will be used from 10:30 a.m. on December 16, 2017, until January 29, 2018.

ADDRESSES: The docket for this deviation, USCG-2018-0057, is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516; email Carl.T.Hausner@uscg.mil.

SUPPLEMENTARY INFORMATION: On December 16, 2017 the California Department of Transportation reported that the California Route 160 Drawbridge over Three Mile Slough, mile 0.1, near Rio Vista, CA suffered a mechanical failure. The drawspan was secured in the closed-to-navigation position due to damaged uphaul/downhaul wire ropes, wire rope drums and sheaves. The drawbridge navigation span provides a vertical clearance of 12 feet above Mean High Water in the closed-to-navigation position. The draw opens on signal as required by 33 CFR 117.5. Navigation on the waterway is commercial and recreational.

The drawspan will be secured in the closed-to-navigation position from 10:30 a.m. on December 16, 2017, through 11 p.m. on February 23, 2018, to allow the bridge owner to conduct emergency repairs. This temporary deviation has not been coordinated with waterway users.

Vessels able to pass through the bridge in the closed position may do so at anytime. The bridge will not be able to open for emergencies. The Sacramento River and San Joaquin River can be used as alternate routes for vessels unable to pass through the bridge in the closed position. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: January 24, 2018.
Carl T. Hausner,
District Bridge Chief, Eleventh Coast Guard District.

[FR Doc. 2018-01634 Filed 1-26-18; 8:45 am]

BILLING CODE 9110-04-P